DEPARTMENT OF LABOR

Employment and Training Administration

[TA-W-51,280]

Emerson Appliance Controls, Frankfort, IN; Notice of Termination of Investigation

Pursuant to Section 221 of the Trade Act of 1974, as amended, an investigation was initiated on March 24, 2003 in response to a worker petition filed on behalf of workers at Emerson Appliance Controls, Frankfort, Indiana.

The petitioning group of workers is covered by an earlier petition filed on March 5, 2003 (TA-W-51,122) that is the subject of an ongoing investigation for which a determination has not yet been issued. Further investigation in this case would duplicate efforts and serve no purpose; therefore the investigation under this petition has been terminated.

Signed at Washington, DC this 4th day of April 2003.
Elliott S. Kushner,
Certifying Officer, Division of Trade Adjustment Assistance.

[FR Doc. 03-10147 Filed 4-23-03; 8:45 am]

BILLING CODE 4510-30-P